DEPARTMENT OF THE INTERIOR

Bureau of Land Management

[BLM_UT_FRN_MO4500179316; UTU-75392]

Public Land Order No. 7949; Extension and Correction of Public Land Order No. 7618, Withdrawal of Public Lands Within Segments of the Colorado, Dolores, and Green River Corridors; Utah

AGENCY: Bureau of Land Management, Interior.

ACTION: Public land order.

SUMMARY: This Public Land Order (PLO) extends the duration of the withdrawal created by PLO No. 7618, which would otherwise expire October 5, 2024, for an additional 20-year term. PLO No. 7618 withdrew approximately 111,895 acres of public lands from location and entry under the United States mining laws, subject to valid existing rights, to protect the recreational, scenic, cultural, riparian, and fish and wildlife values of the Colorado, Dolores, and Green River corridors. Since 2004, the Bureau of Land Management (BLM) has conducted official surveys or resurveys of the lands included in PLO No. 7618 and has revised the legal descriptions of the areas withdrawn. The acreage figure has been updated from 111,895 acres to approximately 109,287 acres for this PLO to reflect the corrected land description.

DATES: This PLO takes effect on October 6, 2024.

FOR FURTHER INFORMATION CONTACT: Lisa Wilkolak, Realty Specialist, Moab Field Office, 435-259-2122, or email at blm_ut_mb_mail@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the withdrawal made by PLO No. 7618 is to protect the recreational, scenic, cultural, riparian, and fish and wildlife values of the Colorado, Dolores, and Green River Corridors, and fulfillment of this purpose warrants extension of this withdrawal.

Order

By virtue of the authority vested in the Secretary of the Interior by Section 204 of the Federal Land Policy and Management Act of 1976, 43 U.S.C. 1714, it is ordered as follows:

1. PLO No. 7618, (69 FR 59953-59955), which originally withdrew approximately 111,895 acres from location and entry under the United States mining laws, is hereby extended for an additional 20-year term, subject to valid existing rights. The legal description is corrected as described below, which now aggregates 109,287 acres.

The land description for this Order is as follows:

(a) Colorado River

Salt Lake Meridian, Utah

T. 26 S., R. 20 E.,

Sec. 1, lot 1, lots 8 thru 14, SW¼NE¼, S½NW¼, and N½SW¼;

Sec. 12, lots 1, 2, and 3, SW¼NE¼, E½SE¼, and SW¼SE¼;

Sec. 13, lots 1, 2, and 4, and N½NE¼.

T. 25 S., R. 21 E.,

Sec. 31, lots 4, 5, and 6, SE¼SW¼, and NW¼SE¼;

Sec. 33, NE¼NE¼;

Sec. 34, lots 6 thru 9, and SE¼SW¼.

T. 26 S., R. 21 E.,

Sec. 3, lot 2, lots 7 thru 12, and SW¼SE¼;

Sec. 5, lots 3 thru 6, lots 9 thru 12, SW¼NE¼, SE¼NW¼, and E½SW¼;

Secs. 6 and 7;

Sec. 8, lots 1 thru 8, E½NW¼, and E½SW¼;

Sec. 9, SE¼SE¼;

Sec. 10, lots 13 thru 22, NE¼SE¼, and SW¼SE¼;

Sec. 11, lots 4 and 5;

Sec. 15, lot 4, E½NW¼, E½SW¼, and SW¼SW¼;

Sec. 16, lot 8;

Sec. 17, lots 1 thru 9, E½NW¼, and SE¼SE¼;

Sec. 18, lots 1 thru 8, E½NE¼, SW¼NE¼, and E½SE¼;

Sec. 19, lots 1, 2, 3, and 5;

Sec. 20, lots 1 thru 6, and SE¼NW¼;

Sec. 21, lots 1 thru 8, SE¼NE¼, and NW¼NW¼.

T. 24 S., R. 22 E.,

Sec. 25, lots 1 thru 4, NE¼, S½NW¼, and N½SW¼;

Sec. 26, lots 1 thru 6;

Sec. 27, lots 1 thru 8, and N½SW¼;

Sec. 28, lots 1 and 2, and SW¼SE¼;

Sec. 33, lots 1 thru 11, N½NW¼, and SE¼SW¼;

Sec. 34, N½NE¼ and N½NW¼;

Sec. 35, S½SW¼SW¼NE¼, S½SE¼SW¼NE¼, S½SW¼SE¼NE¼, S½SE¼SE¼NE¼, N½NW¼, SE¼NW¼, NE¼SW¼, and SE¼;

Sec. 36, lots 1 and 2.

T. 25 S., R. 22 E.,

Sec. 3, S½SW¼ and W½SE¼;

Sec. 4, lots 4 and 5, W½SW¼, SE¼SW¼, and S½SE¼;

Sec. 5, lots 1, 2, and 3;

Sec. 8, lots 1 and 2;

Sec. 9, lots 1 thru 4, and N½NW¼;

Sec. 10, lots 1 thru 7, W½NE¼, and W½SE¼;

Sec. 15, lot 1, W½NE¼, NE¼NW¼, and S½NW¼;

Sec. 16, lots 1 thru 4, and N½SE¼;

Sec. 17, lots 1 thru 4;

Sec. 19, lots 1 thru 4, SE¼SW¼, and NE¼SE¼;

Sec. 20, lot 1, N½NE¼, NE¼NW¼, and SW¼NW¼;

Sec. 21, NW¼NW¼;

Sec. 30, lots 1 and 2.

T. 23 S., R. 23 E.,

Sec. 12, SE¼SW¼ and S½SE¼;

Sec. 13;

Sec. 14, lots 1 thru 7, N½NE¼, SE¼NW¼, E½SW¼, and SE¼SE¼;

Sec. 23, lots 1 thru 6, SW¼NE¼, E½NW¼, and NW¼SE¼;

Sec. 24, lots 1 thru 9, S½NE¼, S½NW¼, and E½SW¼;

Sec. 25, lots 1 thru 10, SW¼NE¼, NE¼NW¼, W½SW¼, and E½SE¼;

Sec. 26, E½NE¼ and NE¼SE¼;

Sec. 34, SE¼NE¼, S½SW¼, and SE¼;

Sec. 35, lots 1, 2, and 3, S½NE¼, S½NW¼, SW¼, and N½SE¼;

Sec. 36, lots 1 thru 10, E½NE¼, NE¼NW¼, SW¼NW¼, N½SE¼, and SW¼SE¼.

T. 24 S., R. 23 E.,

Sec. 1;

Sec. 2, lots 2 thru 5, and lots 8 and 9;

Sec. 3;

Sec. 4, lots 1, 2, 6, and 7, S½NE¼, E½SW¼, and SE¼;

Sec. 5, lots 6 and 7, and W½SE¼;

Sec. 8, lots 1 thru 4, W½NE¼, E½SW¼, and W½SE¼;

Sec. 9;

Sec. 10, lots 1, 3, 4 and 8, SE¼NE¼, NW¼NW¼, and S½SE¼;

Sec. 11, N½, NE¼SW¼, S½SW¼, and SE¼;

Sec. 12, NW¼NE¼ and W½;

Sec. 13, N½NW¼, SW¼NW¼, and NW¼SW¼;

Sec. 14, N½, N½SW¼, and N½SE¼;

Sec. 15, NE¼, NE¼NW¼, S½NW¼, and S½;

Sec. 17, lots 1 thru 6, W½NE¼, E½NW¼, SW¼NW¼, and SW¼;

Sec. 18, lots 2, 3, and 4, S½NE¼, SE¼NW¼, E½SW¼, and SE¼.

Sec. 19;

Sec. 20, lots 1 thru 8, lots 12, 13, and 14, and N½NW¼;

Sec. 21, NW¼NE¼, W½, and W½SE¼;

Secs. 28 and 29;

Sec. 30, lots 1 thru 9, lots 11 and 12, SE¼NE¼, NE¼SE¼, and S½SE¼;

Sec. 31, lots 1, 2 and 3, N½NE¼, SW¼NE¼, E½NW¼, NE¼SW¼, and NW¼SE¼.

T. 21 S., R. 24 E.,

Sec. 22, lots 2, 3, 9, and 10, SW¼NW¼, and NW¼SW¼;

Sec. 23, lots 8 thru 12, and N½NE¼NW¼;

Sec. 26, lots 10 thru 15, and SW¼NE¼;

Sec. 27, lot 6 and SE¼NW¼;

Sec. 35, lots 9 thru 14.

T. 22 S., R. 24 E.,

Sec. 2, lots 2 thru 6, and SE¼NW¼;

Sec. 3, lots 1, 2, and 3, and lots 5 thru 11;

Sec. 10, lots 1 thru 5, SE¼NW¼, and NE¼SE¼;

Sec. 11, lots 1 thru 9, and NW¼SW¼;

Sec. 14, lot 1, NW¼NE¼, and NE¼NW¼;

Sec. 15, lots 1 thru 11;

Sec. 16, lot 1 and NE¼SE¼;

Sec. 21, lots 1 thru 9, and NE¼SW¼;

Sec. 22, lots 1 and 2;

Sec. 33, SW¼SW¼.

T. 23 S., R. 24 E.,

Sec. 5, lots 1 thru 4, lots 6 thru 11, SE¼NE¼, E½SW¼, and NE¼SE¼;

Sec. 8, lots 1, 2, 4, 5, and 10;

Sec. 17, lots 1 thru 4, S½NE¼, S½NW¼, N½SW¼, and SE¼;

Sec. 18;

Sec. 19, lots 1 and 2, NE¼, and E½NW¼;

Sec. 20, N½NE¼ and SE¼NE¼;

Sec. 30, lot 4;

Sec. 31, lots 1 thru 4, E½NW¼, and E½SW¼.

The areas described aggregate approximately 28,330 acres.

(b) Dolores River (including the half (½) of the river bottom adjacent to the Federal uplands to the middle thread of the river)

Salt Lake Meridian, Utah

T. 23 S., R. 24 E.,

Sec. 1, S½SW¼ and S½SE¼;

Sec. 2, lots 5 and 6, SW¼SW¼, and SE¼SE¼;

Sec. 9, lots 1 thru 12, S½NE¼, and NE¼NW¼;

Sec. 10, lots 1 thru 11, NE¼NE¼, SW¼NE¼, NE¼SW¼, and SE¼SE¼;

Secs. 11 and 12;

Sec. 13, lots 1 thru 5, W½NE¼, N½NW¼, and W½SE¼;

Sec. 14, N½;

Sec. 15, lots 1 and 2, NE¼, E½NW¼, SW¼, and NW¼SE¼;

Sec. 16, lots 1, 5, 6, 10, 11 and 12, NW¼SW¼, and S½SE¼;

Sec. 21, NW¼NE¼, N½NW¼, SW¼NW¼, and NW¼SW¼;

Sec. 22, W½NE¼, NW¼, and NE¼SW¼.

T. 23 S., R. 25 E.,

Sec. 7, lots 3 and 4, E½SW¼, and SW¼SE¼;

Sec. 16, SW¼;

Sec. 17, lots 1 thru 5, and lot 9;

Sec. 18, lots 3 thru 9, NW¼NE¼, S½NE¼, E½NW¼, NE¼SW¼,

N½SE¼, and SE¼SE¼;

Sec. 19, lot 1;

Sec. 20, lots 1, 2, and 6, and SE¼NE¼;

Sec. 21;

Sec. 22, lots 1 thru 7, and E½SE¼;

Sec. 26, W½;

Sec. 27;

Sec. 28, NE¼, NE¼NW¼, and E½SE¼;

Sec. 33, E½;

Sec. 34.

T. 24 S., R. 25 E.,

Sec. 1, lots 6, 7, and 8, and NW¼SW¼;

Sec. 2, lots 3 thru 12, S½SW¼, and SW¼SE¼;

Sec. 3, lots 1 thru 5, SW¼NE¼, SE¼NW¼, and SE¼;

Sec. 9, NE¼SE¼ and S½SE¼;

Sec. 10, NE¼, SE¼NW¼, and S½;

Sec. 11, lot 1, NW¼NE¼, S½NE¼, N½NW¼, SW¼SW¼, N½SE¼,

and SE¼SE¼;

Sec. 12;

Sec. 14, W½NW¼;

Sec. 15, NE¼ and E½NW¼.

T. 23 S., R. 26 E.,

Sec. 31, SE¼;

Sec. 32, S½NE¼, S½NW¼, and S½;

Sec. 33, lots 3 and 4, and W½SW¼.

T. 24 S., R. 26 E.,

Sec. 4;

Sec. 5, lots 1 thru 4, S½NE¼, S½NW¼, NE¼SW¼, and SE¼;

Sec. 6, lots 1, 2, and 3, S½NE¼, S½NW¼, SW¼, N½SE¼, and

SW¼SE¼;

Sec. 7, W½NE¼, SE¼NE¼, NW¼, and SE¼;

Sec. 8, SW¼NW¼ and W½SW¼;

Sec. 17, W½NW¼ and W½SW¼;

Sec. 18, E½NE¼ and E½SE¼;

Sec. 19, E½NE¼;

Sec. 20, W½;

Sec. 29, W½NE¼, E½NW¼, E½SW¼, and W½SE¼.

The areas described aggregate approximately 15,980 acres.

(c) Green River (including the half (½) of the river bottom adjacent to the Federal uplands to the middle thread of the river, in non-navigable sections)

Salt Lake Meridian, Utah

T. 15 S., R. 16 E.,

Sec. 1, E½, unsurveyed.

T. 17 S., R. 16 E.,

Sec. 21, SE¼;

Sec. 22, SW¼;

Sec. 26, N½SW¼ and SE¼;

Sec. 27, N½, SW¼, N½SE¼, and SW¼SE¼;

Sec. 28, E½;

Sec. 34, N½NE¼ and N½NW¼;

Sec. 35, E½, E½NW¼, and E½SW¼;

Sec. 36, SE¼.

T. 18 S., R. 16 E.,

Sec. 1, lots 1, 2, and 3, S½NE¼, SE¼NW¼, E½SW¼, and SE¼;

Sec. 12, lots 1, 2, and 3, W½NE¼, E½NW¼, NE¼SW¼, NW¼SE¼, and

S½SE¼;

Sec. 25, lots 1, 2, and 3, S½NE¼, E½SW¼, and W½SE¼;

Sec. 36, lots 1 thru 4, W½NE¼, E½NW¼, E½SW¼, W½SE¼, and

SE¼SE¼.

T. 19 S., R. 16 E.,

Sec. 1;

Sec. 2, lots 9 thru 15, N½SW¼, SW¼SW¼, and N½SE¼;

Sec. 3, SE¼SE¼, unsurveyed;

Sec. 10;

Sec. 11, lots 1 thru 4, N½NE¼, SW¼NE¼, SE¼NW¼, and W½SW¼;

Sec. 12, N½NW¼;

Sec. 14, lots 1 thru 6, E½NW¼, E½SW¼, and N½SE¼;

Sec. 15, lots 1 thru 5, W½NE¼, S½SW¼, NE¼SE¼, and W½SE¼;

Sec. 21, NE¼ and S½;

Sec. 22;

Sec. 23, N½NW¼;

Sec. 26, lots 1 thru 5, NW¼NW¼, SE¼NW¼, and E½SW¼;

Sec. 27, lots 1 thru 9, NE¼NE¼, NW¼NW¼, S½NW¼, NE¼SW¼,

S½SW¼, and NW¼SE¼;

Sec. 28, NE¼ and N½NW¼;

Sec. 34;

Sec. 35, NW¼ and S½.

T. 20 S., R. 16 E.,

Sec. 3, lots 1 thru 5, and lots 8, 9, 10, and 12, SE¼NE¼, SW¼NW¼,

NW¼SW¼, and E½SE¼;

Sec. 4, SE¼SW¼ and S½SE¼;

Sec. 10, lots 1, 6, and 8, E½NE¼, SW¼NE¼, and E½SW¼;

Sec. 17, lots 1, 2, and 3.

T. 21 S., R. 16 E.,

Sec. 27, lots 5, 6, and 8, NE¼NW¼, S½NW¼, and SW¼SE¼;

Sec. 28, lot 2;

Sec. 33, lot 1, SE¼NE¼, and NE¼SE¼;

Sec. 34, lots 5 and 6, SW¼NW¼, N½SW¼, and SW¼SE¼;

Sec. 35, W½SW¼.

T. 22 S., R. 16 E.,

Sec. 3, lots 13, 18, 22, and 23;

Sec. 5, lots 13 and 18;

Sec. 9, SW¼SW¼;

Sec. 16, lots 1, 5, 8, 9, and 10;

Sec. 17, lots 1, 2, and 3, and S½NE¼;

Sec. 21, lots 1, 4, 5, 8, and 9, E½NE¼, SW¼SW¼, and E½SE¼;

Sec. 25, W½SW¼;

Sec. 26, S½;

Sec. 27, lots 1 thru 10, lot 13, and SW¼NW¼;

Sec. 28, lots 1, 2, 5, 12, 13, and 14, E½NE¼, W½NW¼, W½SW¼, and

NE¼SE¼;

Sec. 33, lots 1 and 2, N½NW¼;

Sec. 34, lots 1, 5, 6, 7, and 10, and SE¼SE¼;

Sec. 35, W½NW¼.

T. 23 S., R. 16 E.,

Sec. 3, lots 2, 4, 5, and 6, lots 8 thru 12, lot 14, SW¼NW¼, W½SW¼,

SE¼SW¼, and NE¼SE¼;

Sec. 10, N½NE¼, N½NW¼;

Sec. 11, lots 1, 3, 6, 8, 9, 10, 11 and 14, and NW¼NW¼;

Sec. 12, NW¼SW¼ and SE¼SW¼;

Sec. 13, lots 6, 7, and 10, NW¼NE¼, and E½SE¼;

Sec. 14, N½NE¼ and NE¼NW¼;

Sec. 23, lots 1, 2, and 3, NE¼NE¼, SW¼NE¼, SE¼NW¼, and E½SW¼;

Sec. 24, lots 1, 5, and 6, E½NE¼, NE¼SW¼, and NW¼SE¼;

Sec. 25, lot 8;

Sec. 26, SW¼NE¼.

T. 24 S., R. 16 E.,

Sec. 1, lots 5 thru 8, and SE¼NE¼;

Sec. 11, SE¼SE¼;

Sec. 12, lots 1 thru 8, SE¼NE¼, SW¼NW¼, and NW¼SE¼;

Sec. 13, lots 1 thru 8, NW¼SE¼, and SE¼SE¼;

Sec. 14, E½NE¼;

Sec. 23, lots 1 thru 6, NW¼NE¼, SE¼NW¼, E½SW¼, and SW¼SE¼;

Sec. 24, lots 1 thru 10, and NW¼SE¼;

Sec. 25, lots 1 thru 7.

T. 25 S., R. 16 E.,

Sec. 1, lots 1, 2, and 3, lots 5 thru 9, SE¼NW¼, and NE¼SW¼.

T. 26 S., R. 16 E.,

Sec. 23, S½SE¼, unsurveyed;

Sec. 24, S½, unsurveyed;

Sec. 25, N½NE¼ and NW¼, unsurveyed;

Sec. 26, NE¼, S½NW¼, SW¼, and W½SE¼, unsurveyed;

Sec. 27, S½SE¼, unsurveyed;

Sec. 33, SE¼, unsurveyed;

Sec. 34, unsurveyed.

T. 12 S., R. 17 E.,

Sec. 24, SE¼;

Sec. 25 (A), unsurveyed;

Sec. 26 (A), unsurveyed;

Sec. 27 (A), excluding W½NW¼ and W½SW¼, unsurveyed;

Sec. 34 (A), excluding W½NW¼ and W½SW¼, unsurveyed;

Sec. 35 (B), unsurveyed;

Sec. 36 (B), unsurveyed.

T. 13 S., R. 17 E.,

Sec. 1 (B), unsurveyed;

Sec. 2 (A), unsurveyed;

Sec. 3, excluding W½NW¼ and W½SW¼, unsurveyed;

Sec. 10 (A), excluding N½NE¼, NW¼, and W½SW¼, unsurveyed;

Sec. 11 (A), excluding NW¼NW¼, unsurveyed;

Sec. 15 (A), excluding NW¼NW¼, unsurveyed;

Sec. 16, E½SE¼;

Sec. 21, E½NE¼, unsurveyed;

Sec. 22 (A), excluding SW¼SW¼, unsurveyed;

Sec. 23 (B), unsurveyed;

Sec. 26 (B), unsurveyed;

Sec. 27, E½, E½NW¼, and E½SW¼, unsurveyed;

Sec. 33 (A), excluding W½, unsurveyed;

Sec. 34 (A), unsurveyed;

Sec. 35 (B), unsurveyed.

T. 14 S., R. 17 E.,

Sec. 3 (B), unsurveyed;

Sec. 4 (A), excluding W½, unsurveyed;

Sec. 9 (A), excluding NW¼, N½SW¼, and SW¼SW¼, unsurveyed;

Sec. 10 (B), unsurveyed;

Sec. 16 (A), unsurveyed;

Sec. 17 (A), excluding N½NE¼, SW¼NE¼, and W½, unsurveyed;

Sec. 20 (A), excluding W½, unsurveyed;

Sec. 21 (B), unsurveyed;

Sec. 28 (B), unsurveyed;

Sec. 29 (A), excluding N½NW¼, unsurveyed;

Sec. 32 (A), unsurveyed.

T. 15 S., R. 17 E.,

Sec. 5 (A), unsurveyed;

Sec. 6, unsurveyed;

Sec. 7, lot 4, N½NE¼, SW¼NE¼, W½SE¼, and SE¼SE¼;

Sec. 8, lot 5 and N½NW¼;

Sec. 16 (B), unsurveyed;

Sec. 17 (A), unsurveyed;

Sec. 18, N½, unsurveyed;

Sec. 20, E½NE¼ and E½SE¼, unsurveyed;

Sec. 21 (A), unsurveyed;

Sec. 28 (A), excluding SW¼NW¼ and NW¼SW¼, unsurveyed;

Sec. 33 (A), unsurveyed.

T. 16 S., R. 17 E.,

Sec. 3 (B), unsurveyed;

Sec. 4 (A), unsurveyed;

Sec. 5, SE¼, unsurveyed;

Sec. 8, NE¼, unsurveyed;

Sec. 9 (A), excluding SW¼, unsurveyed;

Sec. 10 (B), unsurveyed;

Sec. 16, lots 1 thru 4, W½NE¼, and W½SE¼;

Sec. 21 (A), excluding W½, unsurveyed;

Sec. 22 (B), unsurveyed;

Sec. 27 (A), unsurveyed;

Sec. 28, E½NE¼ and E½SE¼, unsurveyed;

Sec. 33 (A), excluding W½NE¼, W½, and W½SE¼, unsurveyed;

Sec. 34 (B), unsurveyed;

Sec. 34 (C), unsurveyed.

T. 17 S., R. 17 E.,

Sec. 3, lot 5;

Sec. 4, lots 1, 2, 5, 6, 9, 10, and 11;

Sec. 9, lots 1, 2, 4, and 5, SW¼NE¼, NE¼SW¼, S½SW¼, and W½SE¼;

Sec. 16, lots 2 thru 5, lots 10 and 11, and NW¼NW¼;

Sec. 17, SE¼;

Sec. 19, lots 3 and 6, S½NE¼, and NW¼SE¼;

Sec. 20, lots 1, 2, 3, 6, 7, 8, 11, and 12, NW¼NE¼, and NW¼;

Sec. 21, lot 3;

Sec. 29, lots 2 and 5;

Sec. 30, lots 1, 4, and 7, W½NE¼, SE¼NE¼, and W½SE¼;

Sec. 31, lot 2, and lots 4 thru 8, W½NE¼, E½NW¼, E½SW¼, NE¼SE¼,

and W½SE¼;

Sec. 32, lots 3, 4, 7, 8, and 9.

T. 18 S., R. 17 E.,

Sec. 6, lots 3 thru 6, and lots 9 and 10;

Sec. 7, lots 5, 6, and 7;

Sec. 18, lots 2, 3, 4, 6, 9, 12, and 13, SW¼NE¼, NE¼NW¼, SE¼SW¼, and

NW¼SE¼;

Sec. 19;

Sec. 20, lots 1 and 2, W½NW¼, SE¼NW¼, E½SW¼, and SW¼SE¼, excluding Uintah Reservation as per P.L. 80-440;

Secs. 29, 30, and 31;

Sec. 32, NW¼NW¼, S½NW¼, N½SW¼, and NW¼SE¼.

T. 24 S., R. 17 E.,

Sec. 6;

Sec. 18, lot 4 and SE¼SW¼;

Sec. 19, lots 1 thru 9, lots 11, 12, and 13, E½NE¼, and NE¼SE¼;

Sec. 30, lots 1 thru 5, NW¼NE¼, SE¼NW¼, and E½SW¼;

Sec. 31, lots 1 thru 13.

T. 25 S., R. 17 E.,

Sec. 5, unsurveyed;

Sec. 6, excluding S½SW¼, unsurveyed;

Sec. 7, NE¼, unsurveyed;

Secs. 8, 9, 16, and 17, unsurveyed;

Sec. 19, E½, unsurveyed;

Secs. 20 thru 23, and Secs. 26 and 27, unsurveyed;

Sec. 28, excluding SW¼SW¼, unsurveyed;

Sec. 29, excluding S½SW¼ and S½SE¼, unsurveyed;

Sec. 30, NE¼ and N½SE¼, unsurveyed;

Sec. 31, SE¼, unsurveyed;

Sec. 32, lots 1, 2, and 3, S½SW¼, and NW¼SE¼;

Secs. 33, 34, and 35, unsurveyed.

T. 26 S., R. 17 E.,

Secs. 2, 3, and 4, unsurveyed;

Sec. 5, E½, unsurveyed;

Sec. 10, unsurveyed;

Sec. 11, excluding SW¼, unsurveyed;

Sec. 12, unsurveyed;

Sec. 13, excluding N½NW¼, SW¼NW¼, and W½SW¼, unsurveyed;

Sec. 15, W½, unsurveyed;

Sec. 16, N½NE¼, SE¼NE¼, NE¼NW¼, NE¼SE¼SW¼,

S½SE¼SW¼, and SE¼;

Sec. 17, S½SW¼ and S½SE¼, unsurveyed;

Sec. 18, S½SW¼ and S½SE¼, unsurveyed;

Secs. 19 and 20, unsurveyed;

Sec. 21, N½, unsurveyed;

Sec. 23, E½SE¼, unsurveyed;

Sec. 24, excluding W½NW¼, unsurveyed;

Sec. 25, unsurveyed;

Sec. 26, excluding NW¼NE¼ and N½NW¼, unsurveyed;

Sec. 27, excluding N½NE¼ and N½NW¼, unsurveyed;

Secs. 34 and 35, unsurveyed.

T. 25 S., R. 17½ E.,

Sec. 3, lots 11 thru 16 and SE¼NW¼;

Sec. 4, lots 4 and 5, and lots 9 thru 21;

Secs. 5 and 6, unsurveyed;

Sec. 9;

Sec. 10, lots 1, 2, and 3, SE¼NW¼, and SW¼;

Sec. 13, SW¼ and SW¼SE¼;

Sec. 14, lots 1, 2, and 3, N½SW¼, SW¼SW¼, and N½SE¼;

Sec. 15, W½NW¼ and W½SW¼;

Secs. 16, 20, and 21;

Sec. 22, lots 1 thru 6, E½NW¼, N½SW¼, and N½SE¼;

Sec. 23;

Sec. 24, lots 1 thru 4, W½NE¼, NE¼NW¼, and SE¼;

Sec. 25;

Sec. 27, unsurveyed;

Sec. 28, lots 1, 2, and 3;

Sec. 28 (B), unsurveyed;

Sec. 29;

Secs. 33 and 34, unsurveyed;

Sec. 35, excluding SE¼SE¼, unsurveyed;

Sec. 36, lots 1, 2, and 3, N½NE¼, SW¼NE¼, and N½SW¼.

T. 26 S., R. 17½ E.,

Sec. 1, excluding N½NE¼, and N½NW¼, unsurveyed;

Sec. 2, excluding E½NE¼, unsurveyed;

Secs. 3, 4, 11, 12, 13, 23, and 24, unsurveyed;

Sec. 25, NW¼, unsurveyed;

Secs. 26, 27, and 28, unsurveyed;

Sec. 34, excluding Canyonlands National Park, unsurveyed;

Sec. 35, excluding Canyonlands National Park, unsurveyed.

The areas described aggregate approximately 64,977 acres.

Aliquot parts of unsurveyed sections are only approximate until such time as the section containing them is officially surveyed and marked on the ground in accordance with the Manual of Surveying Instructions, at which point they will become fixed.

The total areas described in (a), (b), and (c) aggregate approximately 109,287 acres.

2. This withdrawal will expire 20 years from the effective date of this Order unless, as a result of a review conducted prior to the expiration date, pursuant to Section 204(f) of the Federal Land Policy and Management Act of 1976, 43 U.S.C. 1714(f), the Secretary determines that the withdrawal shall be further extended.

(Authority: 43 U.S.C. 1714(f))

Robert T. Anderson,
Solicitor.

[FR Doc. 2024-22825 Filed 10-2-24; 8:45 am]

BILLING CODE 4331-25-P